DEPARTMENT OF AGRICULTURE

Forest Service

Withdrawal of the Regional Guide for the South

AGENCY: Forest Service, USDA.

ACTION: Notice.

SUMMARY: The intended effect of this action is to comply with 36 CFR part 219 section 219.35(e) which directs that within 1 year of November 9, 2000, the Regional Forester must withdraw the Regional Guide. When a Regional Guide is withdrawn, the Regional Forester must identify the decisions in the Regional Guide that are to be transferred to a regional supplement of the Forest Service directive system (36 CFR 200.4) or to one or more plans and give notice in the Federal Register of these actions.

EFFECTIVE DATE: This action becomes effective on November 26, 2001.

FOR FURTHER INFORMATION CONTACT: R. Gary Pierson, Director of Planning; Southern Region; 1720 Peachtree Rd., NW; Atlanta, Georgia 30309. Phone: (404) 347-3183.

SUPPLEMENTARY INFORMATION: This action accomplishes the withdrawal of the Regional Guide for the South. An analysis of the direction contained in the Regional Guide shows that all its applicable direction has either (1) Already been incorporated into the Forest Plans; (2) been incorporated into other regional environmental impact statements (such as the Final Environmental Impact Statements for Vegetation Management in the Coastal Plain/Piedmont, Appalachian Mountains, or Ozark/Ouachita Mountains); (3) already been incorporated or addressed in existing Forest Service directives; or (4) contained procedural guidance that does not need to be brought forward as Forest Plan direction or as a Forest Service directive.

The planning rule at 36 CFR 219.35(e) allows for the transfer of direction from a regional guide to a regional supplement of the Forest Service directive system or to one or more Forest Plans through this notification in the Federal Register, however, no further action is needed to complete the withdrawal of the Regional guide for the South.

Dated: November 19, 2001.
R. Gary Pierson,
Acting Regional Forester.

[FR Doc. 01-29333 Filed 11-23-01; 8:45 am]

BILLING CODE 3410-11-M